DEPARTMENT OF DEFENSE

Department of the Army

32 CFR Part 542

[Docket ID: USA-2018-HQ-0018]

RIN 0702-AA89

Schools and Colleges

AGENCY: Department of the Army, DoD.

ACTION: Final rule.

SUMMARY: This final rule removes DoD's regulation concerning policies for conducting the Army's Junior Reserve Officers' Training Corps (JROTC) Program in high schools. This applies to the program given at high school level institutions. This part conveys internal Army policy and procedures, and is unnecessary.

DATES: This rule is effective on March 19, 2019.

FOR FURTHER INFORMATION CONTACT: LTC Mark Rea at 703-695-9262.

SUPPLEMENTARY INFORMATION: It has been determined that publication of this CFR part removal for public comment is impracticable, unnecessary, and contrary to public interest since it is based on removing DoD internal policies and procedures that are publicly available on the Department's issuance website.

DoD internal guidance will continue to be published in Army Regulation 145-2, “Junior Reserve Officers' Training Corps Program: Organization, Administration, Operation and Support,” available at https://armypubs.army.mil/ProductMaps/PubForm/AR.aspx.

This rule is not significant under Executive Order (E.O.) 12866, “Regulatory Planning and Review,” therefore, E.O. 13771, “Reducing Regulation and Controlling Regulatory Costs” does not apply.

List of Subjects in 32 CFR Part 542

Elementary and secondary education.

PART 542—[REMOVED]

Accordingly, by the authority of 5 U.S.C. 301, 32 CFR part 542 is removed.

Brenda S. Bowen,
Army Federal Register Liaison Officer.

[FR Doc. 2019-05135 Filed 3-18-19; 8:45 am]

BILLING CODE 5001-03-P